DEPARTMENT OF COMMERCE

Census Bureau

Agency Information Collection Activities; Submission to the Office of Management and Budget (OMB) for Review and Approval; Comment Request; Census Household Panel; Correction

AGENCY: U.S. Census Bureau, Department of Commerce.

ACTION: Notice; correction.

SUMMARY: On May 11, 2023, the Department of Commerce, published a 30-day public comment period notice in the Federal Register with FR Document Number 2023-10040, Pages 30276-30277 seeking public comments for the information collection entitled, “Census Household Panel.” This document referenced incorrect information in the narrative, and Commerce hereby issues a correction notice as required by the Paperwork Reduction Act of 1995.

FOR FURTHER INFORMATION CONTACT: For additional information concerning this correction, contact Cassandra Logan, U.S. Census Bureau, (301) 763-1087 (or via the internet at Cassandra.logan@census.gov).

SUPPLEMENTARY INFORMATION:

Narrative section incorrectly stated:

Find this particular information collection by selecting “Currently under 30-day Review—Open for Public Comments” or by using the search function and entering either the title of the collection or the OMB Control Number 0607-1013.

Correction

Should have read:

Find this particular information collection by selecting “Currently under 30-day Review—Open for Public Comments” or by using the search function and entering the title of the collection.

Sheleen Dumas,
Department PRA Clearance Officer, Office of the Under Secretary for Economic Affairs, Commerce Department.

[FR Doc. 2023-10573 Filed 5-17-23; 8:45 am]

BILLING CODE 3510-07-P